DEPARTMENT OF COMMERCE

National Institute of Standards and Technology

[Docket No.: 021028258-2258-01]

Notice of Intent To Disseminate Infrared Spectral Library

AGENCY: National Institute of Standards and Technology, Commerce.

ACTION: Notice and request for comments.

SUMMARY: The National Institute of Standards and Technology has recently announced its intent to add condensed phase infrared spectra to its current library of gas phase infrared spectra. NIST plans on making this library widely available via the Internet for scientists, engineers and other parties interested in gas phase infrared spectra. This notice solicits comments concerning proposed plans for disseminating this new data through the Internet.

DATES: Comments must be received by January 15, 2003.

ADDRESSES: Comments should be sent to the attention of Dr. Stephen Stein at the National Institute of Standards and Technology, Mail Stop 8380, 100 Bureau Drive, Gaithersburg, MD, 20899-8380.

FOR FURTHER INFORMATION CONTACT: Dr. Stephen Stein by writing to the above address or by e-mail at stephen.stein@nist.gov or by telephone at (301) 975-2444.

SUPPLEMENTARY INFORMATION: On August 8, 2002, NIST published a notice in the Federal Register entitled “Notice of Intent to Update Infrared Spectral Library”, in which comments were invited concerning the addition of approximately 10,000 digitized, condensed-phase infrared spectra to an existing NIST gas-phase collection. NIST received two comments from one individual. One of those comments made to that notice raised the issue of what methods NIST will use to disseminate the database. Based upon that comment, NIST decided that the means of data dissemination should be opened for discussion. As a result, NIST has decided to re-open the comment period and request public comments on the issue of the means of data dissemination by NIST. Therefore, in this notice, we invite interested parties to provide comments concerning possible means of dissemination of this new data. Current NIST plans are to publish this data on the Internet via the NIST WebBook (http://webbook.nist.gov/) in the same manner as currently employed for the gas-phase infrared data. This data is made freely available on a single-spectrum lookup basis, with individual spectra selected for display by users. No library searching or full or partial database downloading capabilities are planned.

Dated: December 4, 2002.
Karen H. Brown,
Deputy Director.

[FR Doc. 02-31617 Filed 12-13-02; 8:45 am]

BILLING CODE 3510-13-P